DEPARTMENT OF THE INTERIOR

Bureau of Land Management

[UT-030 -04-1610—PH-241A]

Notice of Resource Advisory Committee Meeting

AGENCY: Grand Staircase-Escalante National Monument (GSENM), Bureau of Land Management (BLM), Department of the Interior.

ACTION: Notice of Grand Staircase-Escalante National Monument Advisory Committee (GSENM) meeting.

SUMMARY: In accordance with the Federal Land Policy and Management Act (FLPMA) and the Federal Advisory Committee Act of 1972 (FACA), the U.S. Department of the Interior, Bureau of Land Management (BLM), Grand Staircase-Escalante National Monument Advisory Committee (GSENMAC) will meet as indicated below.

DATES: Two days of meetings are scheduled for September 28-29, 2004. The meeting on September 28 will be held at the GSENM Cannonville Visitor Center, 10 Center Street, Cannonville, Utah. It will begin at 9:30 a.m. and conclude at 6:30 p.m. On September 29 the meeting will be held at the Escalante Interagency Office, 755 W. Main Street, Escalante, Utah. It will begin at 8 a.m. and conclude at 5 p.m.

For further information: Contact Allysia Angus, Landscape Architect / Land Use Planner, GSENM Headquarters Office, 190 East Center, Kanab, Utah 84741; phone (435) 644-4364, or e-mail allysia_angus@blm.gov.

SUPPLEMENTARY INFORMATION: The Grand Staircase-Escalante National Monument (GSENM) Advisory Committee will meet on September 28 and 29, 2004, in Cannonville and Escalante, Utah, respectively. The meeting on September 28 will be held at the GSENM Cannonville Visitor Center, 10 Center Street, Cannonville, Utah. It will begin at 9:30 a.m., local time, and conclude at 6:30 p.m. On September 29 the meeting will be held at the Escalante Interagency Office, 755 W. Main Street, Escalante, Utah. It will begin at 8 a.m. and conclude at 5 p.m.

The Grand Staircase-Escalante National Monument Advisory Committee (GSENMAC) was appointed by the Secretary of Interior on September 26, 2003, pursuant to the Monument Management Plan, the Federal Land Policy and Management Act of 1976 (FLPMA), and the Federal Advisory Committee Act of 1972 (FACA). As specified in the Monument Management Plan, the GSENMAC will have several primary tasks: (1) Review evaluation reports produced by the Management Science Team and make recommendations on protocols and projects to meet overall objectives; (2) Review appropriate research proposals and make recommendations on project necessity and validity; (3) Make recommendations regarding allocation of research funds through review of research and project proposals as well as needs identified through the evaluation process above; (4) Could be consulted on issues such as protocols for specific projects.

Topics to be presented and discussed by the GSENMAC include the Rangeland Health Environmental Impact Statement (EIS), the Science Program, current and potential restoration projects, the Fee Demonstration Program, and Geographic Information Systems (GIS) utilization.

Members of the public are welcome to address the council from 5:30 p.m. to 6:30 p.m., local time on September 28, 2004, in Cannonville, Utah, at the GSENM Visitor Center. Depending on the number of persons wishing to speak, a time limit could be established. Interested persons may make oral statements to the GSENMAC during this time or written statements may be submitted for the GSENMAC's consideration. Written statements can be sent to: Grand Staircase-Escalante National Monument, Attn.: Allysia Angus, 190 E. Center Street, Kanab, UT 84741. Information to be distributed to the GSENMAC is requested 10 days prior to the start of the GSENMAC meeting.

All meetings are open to the public; however, transportation, lodging, and meals are the responsibility of the participating public.

Dated: August 20, 2004.
Dave Hunsaker,
Grand Staircase-Escalante National Monument Manager.

[FR Doc. 04-19510 Filed 8-25-04; 8:45 am]

BILLING CODE 4310-DQ-P